DEPARTMENT OF HOUSING AND URBAN DEVELOPMENT

[Docket No. FR-7050-N-35; OMB Control No. 2502-0598]

30-Day Notice of Proposed Information Collection: HUD Multifamily Rental Project Closing Documents

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: August 18, 2022.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Colette Pollard, Reports Management Officer, QDAM, Department of Housing and Urban Development, 451 7th Street SW, Washington, DC 20410; email Colette Pollard at Colette.Pollard@hud.gov or telephone 202-402-3400. This is not a toll-free number. Copies of available documents submitted to OMB may be obtained from Ms. Pollard.

SUPPLEMENTARY INFORMATION: The Federal Register notice that solicited public comment on the information collection for a period of 60 days was published on August 13, 2021 at 86 FR 44741.

A. Overview of Information Collection

Title of Information Collection: HUD Multifamily Rental Project Closing Documents.

OMB Approval Number: 2502-0598.

Type of Request: Revision of a currently approved collection.

Form Number: HUD-91070M, HUD-91071M, HUD-91073M, HUD-91710M, HUD-91712M, HUD-91725M, HUD-91725M-CERT, HUD-91725M-INST, HUD-92023M, HUD-92070M, HUD-92223M, HUD-92408M, HUD-92412M, HUD-92414M, HUD-92434M, HUD-92441M, HUD-92442M, HUD-92450M, HUD-92452A-M, HUD-92452M, HUD-92455M, HUD-92456M, HUD-92464M, HUD-92466M, HUD-92476.M, HUD-92476a-M, HUD-92476.1M, HUD-92477M, HUD-92478M, HUD-92479M, HUD-92554M, HUD-93305M, HUD-94000M, HUD-94001M, HUD-92907M, HUD-92908M.

Description of the need for the information and proposed use:

This information collection consists of numerous existing closing forms (Closing Documents) used in FHA-insured multifamily transactions.

HUD is also adding to the collection of Closing Documents eleven (11) documents, published, or referenced in Chapter 19 of the 2020 MAP Guide, 4430.G revision date March 19, 2021. The sample forms are not new. They were previous used in the Federal Housing Administration Multifamily Program Closing Guide, 4300.G, or available on HUD's website as sample forms. HUD will assign form numbers to each document upon PRA approval. Once published, preparers will use the OMB-approved forms and discontinue use of the “sample” documents. The following is a list of the names of the former “sample” documents that will receive HUD Form numbers.

List of New Forms

9xxxM Borrower's Organizational Document Provisions, 9xxxM Building Code Verification, 9xxxM Certification of Architectural-Engineering Fees, 9xxxM Equity Bridge Loan Rider—LIHTC, 9xxxM Rider to Regulatory Agreement—Residual Receipts, 9xxxM Rider to Regulatory Agreement—Section 213, 9xxxM Rider to Security Instrument—Fee Joinder, 9xxxM Rider to Security Instrument—LIHTC Projects, 9xxxM Rider—Amendment to Restrictive Covenants, 9xxxM Survey Affidavit of No Change, 9xxxM Third Party Obligee Certification.

Respondents: FHA lenders, borrowers, housing finance agencies and other government agencies that support affordable housing, and Housing Finance Agency (HFA), counsel.

Estimated Number of Respondents: 34,886.

Estimated Number of Responses: 34,886.

Frequency of Response: Once per annum.

Average Hours per Response: 1 hour.

Total Estimated Burden: 18,143.35.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses;

(5) ways to minimize the burden of the collection of information on those who are to respond, including the use of automated collection techniques or other forms of information technology.

HUD encourages interested parties to submit comment in response to these questions.

C. Authority

Section 3507 of the Paperwork Reduction Act of 1995, 44 U.S.C. 3507.

Colette Pollard,
Department Reports Management Officer, Office of Policy Development and Research, Chief Data Officer.

[FR Doc. 2022-15331 Filed 7-18-22; 8:45 am]

BILLING CODE 4210-67-P